DEPARTMENT OF ENERGY

Federal Energy Regulatory Commission

[Docket No. RP04-305-000]

Puget Sound Energy, Inc.; Notice of Proposed Changes in FERC Gas Tariff

May 27, 2004.

Take notice that on May 24, 2004, Puget Sound Energy, Inc. (Puget) tendered for filing as part of its FERC Gas Tariff, Original Volume No. 1, the following tariff sheets, to be effective June 24, 2004:

Third Revised Sheet No. 1

Original Sheet Nos. 112 through 116

Puget states that the purpose of this filing is to incorporate in its tariff Amendment No. 5 dated May 14, 2004, to the Jackson Prairie Gas Storage Project Agreement in order to reflect the interim storage capacity and storage service rights resulting from the completion of the second phase of the authorized storage capacity expansion of the Jackson Prairie Gas Storage Project approved in Docket No. CP02-384-000.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1275 Filed 6-7-04; 8:45 am]

BILLING CODE 6717-01-P